DEPARTMENT OF THE INTERIOR

Bureau of Land Management

[AZ-010-02-1430-ES; A-31350]

Notice of Realty Action; Recreation and Public Purposes (R&PP) Act Classification; Arizona

AGENCY: Bureau of Land Management.

ACTION: Notice.

SUMMARY: The following public lands in the community of Littlefield in Mohave County, Arizona have been examined and found suitable for classification for lease or conveyance to the Littlefield School District under the provisions of the Recreation and Public Purposes Act, as amended (43 U.S.C. 869 et seq.). The Littlefield School District proposes to use the land for schools.

Gila and Salt River Meridian

T. 40 N., R. 16 W.,

Sec. 13, SE¼.

T. 41 N., R. 15 W.,

Sec. 33, portions of Lots 1, 4 and 5.

Containing 139 acres, more or less.

The lands are not needed for Federal purposes. Lease or conveyance is consistent with current BLM land use planning and would be in the public interest. The lease/patent, when issued, will be subject to the following terms, conditions and reservations:

1. Provisions of the Recreation and Public Purposes Act and to all applicable regulations of the Secretary of the Interior.

2. A right-of-way for ditches and canals constructed by the authority of the United States.

3. All minerals shall be reserved to the United States, together with the right to prospect for, mine, and remove the minerals.

4. Those rights for Old Highway 91, 200 feet wide granted by right-of-way AZA-021195.

5. Those rights for a 30 foot wide telephone line granted by right-of-way AZAR-035969.

6. Any other valid and existing rights of record not yet identified.

Detailed information concerning this action is available for review at the office of the Bureau of Land Management, Arizona Strip Field Office, 345 E. Riverside Dr., St. George, Utah 84790.

Upon publication of this notice in the Federal Register, the lands will be segregated from all other forms of appropriation under the public land laws including the general mining laws, except for lease or conveyance under the Recreation and Public Purposes Act and leasing under the mineral leasing laws. For a period of 45 days from the date of publication of this notice in the Federal Register, interested persons may submit comments regarding the proposed lease or conveyance or classification of the lands to the Field Office Manager, Arizona Strip Field Office, 345 E. Riverside Dr., St. George, UT 84790.

Classification Comments

Interested parties may submit comments involving the suitability of the land for schools. Comments on the classification are restricted to whether the land is physically suited for the proposal, whether the use will maximize the future use or uses of the land, whether the use is consistent with local planning and zoning, or if the use is consistent with State and Federal programs.

Application Comments

Interested parties may submit comments regarding the specific use proposed in the application and plan of development, whether the BLM followed proper administrative procedures in reaching the decision, or any other factor not directly related to the suitability of the land for a school. Any adverse comments will be reviewed by the State Director. In the absence of any adverse comments, the classification will become effective 60 days from the date of publication of this notice in the Federal Register.

Roger G. Taylor,
Field Manager.

[FR Doc. 02-10700 Filed 4-30-02; 8:45 am]

BILLING CODE 4310-32-P